DEPARTMENT OF ENERGY

Federal Energy Regulatory Commission

Combined Notice of Filings #1

Take notice that the Commission received the following exempt wholesale generator filings:

Docket Numbers: EG17-42-000.

Applicants: Cotton Plains Wind I, LLC.

Description: Notice of Self-Certification of Exempt Wholesale Generator Status of Cotton Plains Wind I, LLC.

Filed Date: 1/5/17.

Accession Number: 20170105-5166.

Comments Due: 5 p.m. ET 1/26/17.

Docket Numbers: EG17-43-000.

Applicants: Old Settler Wind, LLC.

Description: Notice of Self-Certification of Exempt Wholesale Generator Status of Old Settler Wind, LLC.

Filed Date: 1/5/17.

Accession Number: 20170105-5169.

Comments Due: 5 p.m. ET 1/26/17.

Take notice that the Commission received the following electric rate filings:

Docket Numbers: ER17-424-001.

Applicants: Footprint Power Salem Harbor Development.

Description: Tariff Amendment: Amendment to Application for MBR to be effective 11/30/2016.

Filed Date: 1/6/17.

Accession Number: 20170106-5021.

Comments Due: 5 p.m. ET 1/27/17.

Docket Numbers: ER17-751-000.

Applicants: PJM Interconnection, L.L.C.

Description: § 205(d) Rate Filing: Queue Position AA1-047, Service Agreement No. 4598 to be effective 12/7/2016.

Filed Date: 1/6/17.

Accession Number: 20170106-5050.

Comments Due: 5 p.m. ET 1/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2017.
Kimberly D. Bose,
Secretary.

[FR Doc. 2017-00563 Filed 1-11-17; 8:45 am]

BILLING CODE 6717-01-P